DEPARTMENT OF HOMELAND SECURITY

Coast Guard

[Docket No. USCG-2014-1020]

Guidance on Maritime Cybersecurity Standards

AGENCY: Coast Guard, DHS.

ACTION: Notice; extension of comment period.

SUMMARY: The Coast Guard is extending the comment period on the notice with request for comments titled, “Guidance on Maritime Cybersecurity Standards,” published on December 18, 2014. We are extending the comment period at the request of several industry participants to ensure stakeholders have adequate time to submit complete responses.

DATES: Comments and related material must either be submitted to our online docket via http://www.regulations.gov on or before April 15, 2015, or reach the Docket Management Facility by that date.

ADDRESSES: You may submit comments identified by docket number USCG-2014-1020 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email LT Josephine Long, Coast Guard; telephone 202-372-1109, email Josephine.A.Long@uscg.mil or LCDR Joshua Rose, Coast Guard; 202-372-1106, email Joshua.D.Rose@uscg.mil. If you have questions on viewing or submitting material to the docket, call Ms. Cheryl Collins, Program Manager, Docket Operations, telephone 202-366-9826.

SUPPLEMENTARY INFORMATION:

I. Public Participation and Request for Comments

We encourage you to submit comments and related materials on the questions we posed in the notice with request for comments, published on December 18, 2014 (79 FR 75574). All comments received will be posted, without change, to http://www.regulations.gov, and will include any personal information you have provided.

A. Submitting Comments

If you submit a comment, please include the docket number for this notice (USCG-2014-1020) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, use “USCG-2014-1020” as your search term, and follow the instructions on that Web site for submitting comments. If you submit your comments by mail or hand delivery, submit them in an unbound format, no larger than 8½ by 11 inches, suitable for copying and electronic filing. If you submit your comments by mail and would like to know that they reached the Facility, please enclose a stamped, self-addressed postcard or envelope. We will consider all comments and material received during the comment period and may change this proposed rule based on your comments.

If you submit comments, do not send materials that include trade secrets, confidential, commercial, or financial information; or Sensitive Security Information to the public docket. Please submit such comments separately from other comments on the notice. Comments containing this type of information should be appropriately marked as containing such information and submitted by mail to the Coast Guard point of contact listed in the FOR FURTHER INFORMATION CONTACT section.

Upon receipt of such comments, the Coast Guard will not place the comments in the public docket and will handle them in accordance with applicable safeguards and restrictions on access. The Coast Guard will hold them in a separate file to which the public does not have access, and place a note in the public docket that the Coast Guard has received such materials from the commenter. If the Coast Guard receives a request to examine or copy this information, we will treat it as any other request under the Freedom of Information Act (5 U.S.C. 552).

B. Viewing Comments and Documents

To view comments, as well as documents mentioned in this notice as being available in the docket, go to http://www.regulations.gov, use “USCG-2014-1020” as your search term, and follow the instructions on that Web site for viewing documents in the public docket for this notice. If you do not have access to the Internet, you may view the docket online by visiting the Docket Management Facility in Room W12-140 on the ground floor of the Department of Transportation, West Building, 1200 New Jersey Avenue SE., Washington, DC 20590, between 9 a.m. and 5 p.m., Monday through Friday, except Federal holidays. We have an agreement with the Department of Transportation to use the Docket Management Facility.

C. Privacy Act

Anyone can search the electronic form of all comments received into any of our dockets by the name of the individual submitting the comment (or signing the comment, if submitted on behalf of an association, business, labor union, etc.). You may review a Privacy Act notice regarding our public dockets in the January 17, 2008, issue of the Federal Register (73 FR 3316).

II. Background

On December 18, 2014, the Coast Guard published a notice with request for comments titled, “Guidance on Maritime Cybersecurity Standards” (79 FR 75574). In the notice, the Coast Guard announced that it is developing policy to help vessel and facility operators identify and address cyber-related vulnerabilities that could contribute to a Transportation Security Incident.¹ The notice sought public input from the maritime industry and other interested parties on how to identify and mitigate potential vulnerabilities to cyber-dependent systems. Additionally, the Coast Guard hosted a public meeting on January 15, 2015 in Washington, DC, to provide an opportunity for the public to comment on the development of security assessment methods that might assist vessel and facility owners and operators identify and address cybersecurity vulnerabilities. The Coast Guard intends to consider the public comments from the meeting and in response to the notice in developing relevant guidance, which may include standards, guidelines, and best practices to protect maritime critical infrastructure.

¹ A Transportation Security Incident is defined in 33 CFR 101.105 to mean “a security incident resulting in a significant loss of life, environmental damage, transportation system disruption, or economic disruption in a particular area.

III. Reason for the Extension

On December 18, 2014, the Coast Guard published a notice with request for comments titled, “Guidance on Maritime Cybersecurity Standards” (79 FR 75574). The comment period for the notice was set to expire on February 17, 2015. On January 15, 2015, the Coast Guard hosted a public meeting in Washington, DC on maritime cybersecurity. Several industry participants have contacted the Coast Guard personnel identified in the notice and at the public meeting to request more time to respond to the notice. Accordingly, the Coast Guard is extending the public comment period until April 15, 2015, to ensure that all stakeholders have adequate time to review and fully respond to the questions posed in the December 18, 2014 notice. We encourage all interested members of the public to send comments in response to the notice.

This notice of extension is issued under the authority of 5 U.S.C. 552(a).

Dated: February 10, 2015.
Andrew Tucci,
Chief, Office of Port & Facility Compliance, U.S. Coast Guard.

[FR Doc. 2015-03205 Filed 2-13-15; 8:45 am]

BILLING CODE 9110-04-P